DEPARTMENT OF THE INTERIOR

Bureau of Land Management

[WY070-00-EJ]

Notice of Intent To Prepare an Environmental Impact Statement; Correction

AGENCY: Bureau of Land Management, Interior.

ACTION: Correction of dates in Notice of Intent (NOI) to Prepare an Environmental Impact Statement for Oil and Gas Development in the Powder River Basin, Wyoming, published on June 21, 2000.

SUMMARY: This notice provides a correction of the dates included in the “Dates” Section of the above referenced NOI. The revised section is included below.

DATES: Comments to be considered in the draft EIS from the scoping period should be submitted by July 31, 2000. The draft EIS should be available for public review by April 15, of 2001.

ADDRESSES: Questions or concerns should be addressed to Paul Beels in the BLM Buffalo Field Office, 1425 Fort Street, Buffalo, WY 82834.

FOR FURTHER INFORMATION CONTACT: Paul Beels, phone 307-684-1100.

Dated: June 22, 2000.
Alan L. Kesterke,
Associate State Director.

[FR Doc. 00-16284 Filed 6-27-00; 8:45 am]

BILLING CODE 4310-22-M